DEPARTMENT OF JUSTICE

Federal Bureau of Prisons

Notice of the Availability of the Finding of No Significant Impact for the Proposed Federal Correctional Institution—Hazelton, WV

AGENCY: U.S. Department of Justice, Federal Bureau of Prisons.

ACTION: Finding of No Significant Impact/Final Environmental Assessment.

SUMMARY: The U.S. Department of Justice, Federal Bureau of Prisons (BOP) announces the availability of the Finding of No Significant Impact (FONSI) for the proposed development of a Federal Correctional Institution (FCI) to be located in Hazelton, Preston County, West Virginia.

The BOP is seeking to expand the facilities that currently exist at BOP's USP Hazelton facility due to a growing population of federal inmates and an increased demand in the Mid-Atlantic region for facilities to house the growing inmate population.

Background Information

Pursuant to section 102(2)(c) of the National Environmental Policy Act of 1969 and the Council of Environmental Quality Regulations (40 CFR Parts 1500-1508), BOP has prepared a Draft Environmental Assessment (EA) for a medium-security FCI to house approximately 1,200 adult male inmates in Hazelton, West Virginia.

USP Hazelton occupies 915 acres and is currently comprised of a high-security penitentiary housing approximately 1,608 male inmates, a Secured Female Facility (SFF) housing approximately 623 female inmates and a Federal Prison Camp (FPC) housing approximately 124 low-security inmates. Environmental studies were conducted before the construction of the USP Hazelton and the FPC in 1999, and the SFF in 2000. It is the intent of the BOP to construct the FCI on a portion of the existing 915 acres currently owned by BOP. The EA was prepared in accordance with NEPA and published on February 29, 2008 for a 30-day comment period.

Project Information

The proposed action in Hazelton, West Virginia, is part of the BOP's comprehensive expansion effort to accommodate an increasing federal inmate population and reduce system-wide inmate crowding. The proposed action would consist of construction and operation of a medium-security FCI at the existing USP Hazelton facility. The principal function of the correctional facility would be to provide a safe, secure and humane environment for the care and custody of federal inmates, primarily from the Mid-Atlantic region of the country. Upon activation, the facility would have a staff of approximately 250 full-time employees who would provide 24-hour supervision. Development of the proposed facility will occur on 250 acres of the 915 acres comprising the existing USP Hazelton facilities.

An Environmental Impact Statement (EIS) was prepared for the original development of the 915-acre site in 1999, and additional environmental studies were prepared for further development of the site in 2000. The current EA was undertaken to evaluate current environmental, cultural and socioeconomic resources and potential impacts of the proposed FCI. The previous NEPA documents included the area currently being evaluated in this EA.

The impacts of the proposed build alternatives were considered in an EA published on February 29, 2008. The EA evaluated the effects of the development of the FCI Hazelton site. Review of the EA with the necessary mitigation has led to a FONSI, as that phrase is defined pursuant to NEPA. The proposed build alternative would result in negligible impacts to environmental resources within the community. There would be no significant adverse impacts to surrounding land uses, utility systems, traffic patterns or other community considerations. No significant adverse on-site impacts as defined pursuant to NEPA are anticipated as a result of the Action alternative. After review of the comments received from interested agencies and local citizens concerning the EA, the BOP signed the FONSI for the Action alternative.

Notice of Availability

The BOP provided written notices of the availability of the EA in three local newspapers and the Federal Register. The BOP also distributed approximately 135 copies of the EA to federal and state agencies, state and local governments, elected officials, interested organizations, and individuals.

Availability of the Finding of No Significant Impact

The FONSI along with the Final EA and other information regarding this project are available upon request. To request a copy of the Finding of No Significant Impact, please contact: Pamela J. Chandler, Chief, or Issac J. Gaston, Site Selection Specialist, Site Selection and Environmental Review Branch, Federal Bureau of Prisons, 320 First Street, NW., Washington, DC 20534, Tel: 202-514-6470, Fax: 202-616-6024/E-mail: pchandler@bop.gov or igaston@bop.gov.

Copies of the Finding of No Significant Impact and the Final Environmental Assessment are available for public viewing at:

Preston County Courthouse, 101 West Main Street, Room 101, Kingwood, WV 26537.

Kingwood Public Library, 205 West Main Street, Kingwood, WV 26537.

Terra Alta Public Library, 701B East State Avenue, Terra Alta, WV 26764.

FOR FURTHER INFORMATION CONTACT: Pamela J. Chandler, or Issac J. Gaston, Federal Bureau of Prisons.

Dated: May 12, 2008.
Issac J. Gaston,
Site Specialist, Site Selection and Environmental Review Branch.

[FR Doc. E8-11123 Filed 5-22-08; 8:45 am]

BILLING CODE 4410-05-P